DEPARTMENT OF JUSTICE

Notice of Lodging of Proposed Consent Decree Under the Comprehensive Environmental Response, Compensation, and Liability Act

On September 28, 2017, the Department of Justice lodged a Consent Decree with defendant Aramark Uniform & Career Apparel, LLC (“Aramark”) in the United States District Court for the Southern District of West Virginia, Civil Action No. 3:17-cv-04062. The Consent Decree resolves a claim under Section 107(a)(2) of the Comprehensive Environmental Response, Compensation, and Liability Act (“CERCLA”), 42 U.S.C. 9607(a)(2), for past response costs incurred in connection with the release of PCE at the Coyne Textile Services Superfund Site, located in Huntington, West Virginia. The Complaint filed concurrently with the Consent Decree alleges that Aramark, through a predecessor company, owned and operated an industrial laundry business at the Site from 1972 to 1982 that included a dry cleaning process that utilized perchloroethylene (“PERC” or “PCE”). The proposed consent decree obligates Aramark to reimburse $1.595 million of the United States' past response costs and provides Aramark a covenant not to sue for past response costs incurred through May 10, 2017. Aramark is performing the work at the Site pursuant to an administrative order and agreement with EPA, which addresses claims under Section 106(a) of CERCLA, 42 U.S.C. 9606(a), at the Site.

The publication of this notice opens a period for public comment on the Consent Decree. Comments should be addressed to the Acting Assistant Attorney General, Environment and Natural Resources Division, and should refer to United States v. Aramark Uniform & Career Apparel, LLC, Civil Action No. 3:17-cv-04062 (S.D.W. Va.), DJ Ref. No. 90-11-3-11369. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $6.00 (25 cents per page reproduction cost) payable to the United States Treasury. For a paper copy without the exhibits and signature pages, the cost is $5.25.

Jeffrey Sands,
Assistant Section Chief, Environmental Enforcement Section, Environment and Natural Resources Division.

[FR Doc. 2017-21394 Filed 10-4-17; 8:45 am]

BILLING CODE 4410-15-P